DEPARTMENT OF HEALTH AND HUMAN SERVICES

Announcement of the Scientific Report Meeting of the 2025 Dietary Guidelines Advisory Committee

AGENCY: Food, Nutrition, and Consumer Services (FNCS), U.S. Department of Agriculture (USDA); Office of Disease Prevention and Health Promotion, Office of the Assistant Secretary for Health (OASH), U.S. Department of Health and Human Services (HHS).

ACTION: Notice; announcement of public meetings.

SUMMARY: The Departments of Health and Human Services and Agriculture announce the Scientific Report meeting of the 2025 Dietary Guidelines Advisory Committee (Committee). This meeting will be open to the public virtually. The period of written public comments to the Committee will remain open through Wednesday, October 7, 2024.

DATES:

The meetings and comment collection dates are scheduled as follows:

• The Scientific Report meeting will be held on October 21, 2024, from 11 a.m. to 6 p.m. eastern time and on October 22, 2024, from 11 a.m. to 6 p.m. eastern time. Registration is required for the livestream and opens to the public on October 1, 2024, at DietaryGuidelines.gov.

• The period for written public comments which opened on January 19, 2023, will close at 11:59 p.m. ET on Monday, October 7, 2024.

ADDRESSES: The meeting will be accessible online via livestream and recorded for later viewing. Registrants will receive the livestream information before the meeting.

FOR FURTHER INFORMATION CONTACT: Designated Federal Officer, 2025 Dietary Guidelines Advisory Committee, Janet M. de Jesus, MS, RD; Office of Disease Prevention and Health Promotion, 1101 Wootton Parkway, Suite 420, Rockville, MD 20852; Phone: 240-453-8266; Email DietaryGuidelines@hhs.gov. Additional information is at DietaryGuidelines.gov.

SUPPLEMENTARY INFORMATION:

Authority and Purpose: Under Section 301 of Public Law 101-445 (7 U.S.C. 5341, the National Nutrition Monitoring and Related Research Act of 1990, title III), the Secretaries of HHS and USDA are directed to publish the Dietary Guidelines for Americans jointly at least every five years. See 88 FR 3423, January 19, 2023, for notice of the first meeting of the 2025 Dietary Guidelines Advisory Committee, the complete Authority and Purpose, and the Committee's Task. The 2025 Dietary Guidelines Advisory Committee is formed and governed under the provisions of the Federal Advisory Committee Act (FACA), Public Law 92-463, as amended (5 U.S.C. app).

Purpose of the Meeting: During the Scientific Report meeting, the Committee will review and discuss the scientific findings and advice included in its Scientific Report. Each subcommittee and working group will review and share their advice for Committee discussion. Following this meeting, the Committee will finalize and submit its Scientific Report to HHS and USDA.

Meeting Agendas: The agenda will be announced in advance of the meeting on DietaryGuidelines.gov.

Meeting Registration: This Committee meeting is open to the public. The meeting will be accessible online via livestream and recorded for later viewing. Registration is required for the livestream. To register, go to DietaryGuidelines.gov and click on the link for “Meeting Registration.”

Meeting materials for each day of the meeting will be accessible after the respective meeting at DietaryGuidelines.gov. Materials may be requested by email at DietaryGuidelines@hhs.gov.

Public Comments: A call for written public comment to the Committee opened on January 19, 2023, and will remain open until 11:59 p.m. ET on Monday, October 7, 2024. This allows time for the Committee to review the comments before their final public meeting. Written comments may be submitted at Regulations.gov (Document ID: HHS-OASH-2022-0021-0001).

Paul Reed,
Deputy Assistant Secretary for Health, Office of Disease Prevention and Health Promotion.

[FR Doc. 2024-22048 Filed 9-25-24; 8:45 am]

BILLING CODE 4150-32-P